DEPARTMENT OF TRANSPORTATION

Federal Aviation Administration

14 CFR Part 39

[Docket No. FAA-2016-6893; Directorate Identifier 2015-NM-181-AD; Amendment 39-18812; AD 2017-05-02]

RIN 2120-AA64

Airworthiness Directives; Airbus Airplanes

AGENCY: Federal Aviation Administration (FAA), Department of Transportation (DOT).

ACTION: Final rule.

SUMMARY: We are adopting a new airworthiness directive (AD) for certain Airbus Model A318-112 airplanes; Model A319-111, -112, -115, -132, and -133 airplanes; Model A320-214, -232, and -233 airplanes; and Model A321-211, -212, -213, -231, and -232 airplanes. This AD was prompted by a quality control review on the final assembly line, which determined that the wrong aluminum alloy was used to manufacture several structural parts. This AD requires a one-time eddy current conductivity measurement of certain cabin and cargo compartment structural parts to determine if an incorrect aluminum alloy was used, and replacement if necessary. We are issuing this AD to address the unsafe condition on these products.

DATES: This AD is effective April 7, 2017.

The Director of the Federal Register approved the incorporation by reference of certain publications listed in this AD as of April 7, 2017.

ADDRESSES: For service information identified in this final rule, contact Airbus, Airworthiness Office—EIAS, 1 Rond Point Maurice Bellonte, 31707 Blagnac Cedex, France; telephone +33 5 61 93 36 96; fax +33 5 61 93 44 51; email account.airworth-eas@airbus.com; Internet: http://www.airbus.com. You may view this referenced service information at the FAA, Transport Airplane Directorate, 1601 Lind Avenue SW., Renton, WA. For information on the availability of this material at the FAA, call 425-227-1221. It is also available on the Internet at http://www.regulations.gov by searching for and locating Docket No. FAA-2016-6893.

Examining the AD Docket

You may examine the AD docket on the Internet at http://www.regulations.gov by searching for and locating Docket No. FAA-2016-6893; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Discussion

We issued a notice of proposed rulemaking (NPRM) to amend 14 CFR part 39 by adding an AD that would apply to certain Airbus Model A318-112 airplanes; Model A319-111, -112, -115, -132, and -133 airplanes; Model A320-214, -232, and -233 airplanes; and Model A321-211, -212, -213, -231, and -232 airplanes. The NPRM published in the Federal Register on May 26, 2016 (81 FR 33438). The NPRM was prompted by a quality control review on the final assembly line, which determined that the wrong aluminum alloy was used to manufacture several structural parts. The NPRM proposed to require a one-time eddy current conductivity measurement of certain cabin and cargo compartment structural parts to determine if an incorrect aluminum alloy was used, and replacement if necessary. We are issuing this AD to detect and replace structural parts made of incorrect aluminum alloy. This condition could result in reduced structural integrity of the airplane.

The European Aviation Safety Agency (EASA), which is the Technical Agent for the Member States of the European Union, has issued EASA Airworthiness Directive 2015-0218, dated November 3, 2015 (referred to after this as the Mandatory Continuing Airworthiness Information, or “the MCAI”), to correct an unsafe condition for certain Airbus Model A318-112 airplanes; Model A319-111, -112, -115, -132, and -133 airplanes; Model A320-214, -232, and -233 airplanes; and Model A321-211, -212, -213, -231, and -232 airplanes. The MCAI states:

Following an Airbus quality control review on the final assembly line, it was discovered that wrong aluminum alloy were delivered by a supplier for several structural parts. The results of the investigations highlighted that 0.04% of the stock could be impacted by this wrong material.

Structural investigations demonstrated the capability to sustain the static limits loads, and sufficient fatigue life up to a certain inspection threshold.

This condition, if not detected and corrected, could reduce the structural integrity of the aeroplane.

To address this potential unsafe condition, Airbus issued Service Bulletin (SB) A320-53-1298 and SB A320-53-1299 to provide inspection instructions.

For the reasons described above, this [EASA] AD requires a one-time Special Detailed Inspection (SDI) [eddy current conductivity measurements] of certain cabin and cargo compartment parts for material identification and, depending on findings, replacement with serviceable parts.

You may examine the MCAI in the AD docket on the Internet at http://www.regulations.gov by searching for and locating Docket No. FAA-2016-6893.

Comments

We gave the public the opportunity to participate in developing this AD. The following presents the comments received on the NPRM and the FAA's response to each comment.

Support for the NPRM

One commenter, Jerry Curtis, expressed support for the NPRM.

Request To Refer to the Latest Service Information

Airbus requested that we refer to the latest service information: Airbus Service Bulletins A320-53-1298 and A320-53-1299, both Revision 01, both dated June 9, 2016. We referred to Airbus Service Bulletins A320-53-1298 and A320-53-1299, both dated February 16, 2015, as the appropriate sources of service information for accomplishing the actions specified in the NPRM.

We agree with the request to refer to the latest service information. Airbus Service Bulletins A320-53-1298 and A320-53-1299, both Revision 01, both dated June 9, 2016, include updated information and specify that no additional work is necessary for airplanes modified by the original issue. We have revised this AD to refer to Airbus Service Bulletins A320-53-1298 and A320-53-1299, both Revision 01, both dated June 9, 2016. We have also added credit for actions done before the effective date of this AD using Airbus Service Bulletins A320-53-1298 and A320-53-1299, both dated February 16, 2015.

Request To Correct a Certain Part Number (P/N)

Allegiant Air asked if the part number, P/N D5358526421400, in the ninth row of table 1 to paragraphs (g) and (h) of the proposed AD under “Affected P/N” is correct. Allegiant Air stated that the affected part number is the same as the acceptable replacement part number.

We acknowledge the commenter's concern; however, we have confirmed that both part numbers in the ninth row of table 1 to paragraphs (g) and (h) of this AD are the same and are correct as written. Therefore, we have not changed this AD in this regard.

Additional Change to NPRM

We have added paragraph (i) to this AD to clarify that no reporting is required.

Conclusion

We reviewed the relevant data, considered the comments received, and determined that air safety and the public interest require adopting this AD with the change described previously and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

We reviewed Airbus Service Bulletins A320-53-1298 and A320-53-1299, both Revision 01, both including Appendixes 01 through 03, both dated June 9, 2016. The service information describes procedures for a one-time eddy current conductivity measurement of certain cabin and cargo compartment structural parts to determine if an incorrect aluminum alloy was used, and replacement of any affected part with a serviceable part. These documents are distinct since they apply to different parts of the airplane (cabin and cargo compartment). This service information is reasonably available because the interested parties have access to it through their normal course of business or by the means identified in the ADDRESSES section.

Costs of Compliance

We estimate that this AD affects 167 airplanes of U.S. registry.

We also estimate that it takes about 1 work-hour per product to comply with the basic requirements of this AD. The average labor rate is $85 per work-hour. Based on these figures, we estimate the cost of this AD on U.S. operators to be $14,195, or $85 per product.

We have received no definitive data that would enable us to provide cost estimates for the on-condition actions specified in this AD.

According to the manufacturer, some of the costs of this AD may be covered under warranty, thereby reducing the cost impact on affected individuals. We do not control warranty coverage for affected individuals. As a result, we have included all available costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-05-02 Airbus: Amendment 39-18812; Docket No. FAA-2016-6893; Directorate Identifier 2015-NM-181-AD.

(a) Effective Date

This AD is effective April 7, 2017.

(b) Affected ADs

None.

(c) Applicability

This AD applies to the Airbus airplanes identified in paragraphs (c)(1) through (c)(4) of this AD, certificated in any category; manufacturer serial numbers 3586, 3588, 3589, 3590, 3595, 3604, 3608, 3614, 3615, 3620, 3632, 3634, 3638, 3647, 3651, 3657, 3660, 3661, 3663, 3671, 3675, 3680, 3683 through 3687 inclusive, 3689, 3691, 3694, 3700, 3702, 3704, 3705, 3710, 3720, 3727, 3728, 3733, 3735, 3742, 3744, 3746, 3754, 3757, 3759, 3763, 3768, 3770, 3772, 3774, 3775, 3779, 3788, 3790, 3794, 3797, 3799, 3801, 3803, 3808, 3810, 3818, 3822, 3824, 3826 through 4329 inclusive, 4331 through 6051 inclusive, 6053 through 6061 inclusive, 6063 through 6072 inclusive, 6074 through 6100 inclusive, 6102 through 6115 inclusive, 6117 through 6126 inclusive, 6128 through 6136 inclusive, 6138 through 6143 inclusive, 6145 through 6150 inclusive, 6152 through 6159 inclusive, 6161 and 6162.

(1) Airbus Model A318-112 airplanes.

(2) Airbus Model A319-111, -112, -115, -132, and -133 airplanes.

(3) Airbus Model A320-214, -232, and -233 airplanes.

(4) Airbus Model A321-211, -212, -213, -231, and -232 airplanes.

(d) Subject

Air Transport Association (ATA) of America Code 53, Fuselage.

(e) Reason

This AD was prompted by a quality control review of the final assembly line which determined that the wrong aluminum alloy was used to manufacture several structural parts. We are issuing this AD to detect and replace structural parts made of incorrect aluminum alloy. This condition could result in reduced structural integrity of the airplane.

(f) Compliance

Comply with this AD within the compliance times specified, unless already done.

(g) One-Time Measurement

Within 6 years after the effective date of this AD, but not exceeding 12 years since the date of issuance of the original certificate of airworthiness or the date of issuance of the original export certificate of airworthiness: Do a one-time eddy current conductivity measurement (with 60 kilohertz (kHz) and 480 kHz) of the cabin and cargo compartment structural parts identified in the “Affected P/N” column of table 1 to paragraphs (g) and (h) of this AD to determine if an incorrect aluminum alloy was used, in accordance with the Accomplishment Instructions of Airbus Service Bulletins A320-53-1298, Revision 01, including Appendixes 01, 02, and 03, dated June 9, 2016 (for cabin parts); and A320-53-1299, Revision 01, including Appendixes 01, 02, and 03, dated June 9, 2016 (for cargo parts).

Table 1 to Paragraphs (g) and (h) of This AD—Parts To Be Inspected/Installed
Affected P/N | Acceptable replacement P/N | Area
D5347120720000 | D5347120720051 | Cabin.
D5347120720100 | D5347120720151 | Cabin.
D5347120920000 | D5347120920051 | Cabin.
D5347120920100 | D5347120920151 | Cabin.
D5347118820400 | D5347118820451 | Cabin.
D5347717620000 | D5347717620051 | Cargo.
D5357020620000 | D5357020620051 | Cargo.
D5358526421200 | D5358526421251 | Cargo.
D5358526421400 | D5358526421400 | Cargo.
D5358526421000 | D5358526421051 | Cargo.
D5358513120001 | D5358513120051 | Cargo.

(h) Replacement

If during the inspection required by paragraph (g) of this AD, any affected part having a part number (P/N) specified in table 1 to paragraphs (g) and (h) of this AD is found to have a measured value greater than that specified in Figure A-GFAAA, Sheet 02, “Inspection Flowchart,” of the applicable service information identified in paragraph (g) of this AD: Before further flight, replace with an acceptable replacement part having a part number specified in table 1 to paragraphs (g) and (h) of this AD, in accordance with the Accomplishment Instructions of Airbus Service Bulletins A320-53-1298, Revision 01, including Appendixes 01, 02, and 03, dated June 9, 2016 (for cabin parts); and A320-53-1299, Revision 01, including Appendixes 01, 02, and 03, dated June 9, 2016 (for cargo parts).

(i) No Reporting

Although reporting of inspection results is specified as a “Required for Compliance” (RC) action in Airbus Service Bulletins A320-53-1298, Revision 01, including Appendixes 01, 02, and 03, dated June 9, 2016; and A320-53-1299, Revision 01, including Appendixes 01, 02, and 03, dated June 9, 2016; this AD does not require any report.

(j) Credit for Previous Actions

This paragraph provides credit for the actions required by paragraphs (g) and (h) of this AD, if those actions were performed before the effective date of this AD using Airbus Service Bulletin A320-53-1298, dated February 16, 2015; and Airbus Service Bulletin A320-53-1299, dated February 16, 2015; as applicable.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone: 425-227-1405; fax: 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Required for Compliance (RC): Except as provided by paragraph (i) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(l) Related Information

(1) Refer to Mandatory Continuing Airworthiness Information (MCAI) EASA AD 2015-0218, dated November 3, 2015, for related information. This MCAI may be found in the AD docket on the Internet at http://www.regulations.gov by searching for and locating Docket No. FAA-2016-6893.

(2) Service information identified in this AD that is not incorporated by reference is available at the addresses specified in paragraphs (m)(3) and (m)(4) of this AD.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A320-53-1298, Revision 01, including Appendixes 01 through 03, dated June 9, 2016.

(ii) Airbus Service Bulletin A320-53-1299, Revision 01, including Appendixes 01 through 03, dated June 9, 2016.

(3) For service information identified in this AD, contact Airbus, Airworthiness Office—EIAS, 1 Rond Point Maurice Bellonte, 31707 Blagnac Cedex, France; telephone +33 5 61 93 36 96; fax +33 5 61 93 44 51; email account.airworth-eas@airbus.com; Internet: http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on February 16, 2017.
Thomas Groves,
Acting Manager, Transport Airplane Directorate, Aircraft Certification Service.

[FR Doc. 2017-03972 Filed 3-2-17; 8:45 am]

BILLING CODE 4910-13-P